SURFACE TRANSPORTATION BOARD

[Docket No. FD 36652]

Green Eagle Railroad—Construction and Operation Exemption—Line of Railroad in Maverick County, Texas

AGENCY: Lead: Surface Transportation Board (Board); Cooperating: United States Coast Guard (USCG).

ACTION: Notice of availability of the final scope of study for the environmental impact statement (EIS).

SUMMARY: On December 14, 2023, Green Eagle Railroad, LLC (GER), a subsidiary of Puerto Verde Holdings (PVH), filed a petition with the Board for authority to construct and operate approximately 1.3 miles of new common carrier rail line (the Line) in Maverick County, Texas (Proposed Action). The purpose of this Notice is to inform stakeholders—including members of the public; elected officials; Tribes; Federal, State, and local agencies; and organizations—interested in or potentially affected by environmental and historic impacts related to the Line and the PVGTB Project of the availability of the Final Scope of Study (Final Scope) for the EIS.

FOR FURTHER INFORMATION CONTACT: Andrea Poole, Office of Environmental Analysis, Surface Transportation Board, c/o VHB, 1001 G Street NW, Suite 1125, Washington, DC 20001; send an email to contact@greeneaglerreis.com; call (202) 934-3330; or call OEA's toll-free number (888) 319-2337. Reference Docket No. FD 36652 in all communications. If you require an accommodation under the Americans with Disabilities Act, please call (202) 245-0245. For information about the environmental review process, you may visit the Board-sponsored project website at www.greeneaglerreis.com or the Board's website at www.stb.gov.

SUPPLEMENTARY INFORMATION:

Background

GER proposes to construct and operate an approximately 1.3-mile rail line that would extend from the United States/Mexico border to the existing Union Pacific Railroad (UP) connection at approximately UP milepost 31. The Line would cross the Rio Grande River on a new rail bridge (Rail Bridge) and be part of a larger project proposed by PVH, the Puerto Verde Global Trade Bridge project (PVGTB Project), consisting of a new trade corridor for freight rail and commercial motor vehicles between Piedras Negras, Coahuila, Mexico, and Eagle Pass, Texas, United States. The Board's Office of Environmental Analysis (OEA) determined that construction and operation of the Line has the potential to result in significant environmental impacts; therefore, the preparation of an EIS is appropriate pursuant to the National Environmental Policy Act (NEPA) (42 U.S.C. 4321-4370m-11) and related environmental laws, including section 106 of the National Historic Preservation Act (NHPA) (54 U.S.C. 306108). In addition to the Line, the PVGTB Project in the United States includes a new commercial motor vehicle roadway that would cross the Rio Grande River on a new road bridge (Road Bridge) separate from the Rail Bridge; a control tower; and inspection facilities. Only the Line requires licensing authority from the Board. Separately from the Board's final decision on GER's request for authority to construct and operate the Line under 49 U.S.C. 10502, the proposed bridges would require permits from USCG and the U.S. Army Corps of Engineers (USACE). In addition, the Line and the PVGTB Project would require authorization from the International Boundary and Water Commission (IBWC) to ensure that the Line and the PVGTB Project do not obstruct the normal flow or flood flows of the Rio Grande River. USCG will participate as a Cooperating Agency in the EIS process. Because USCG, USACE, and IBWC will have actions related to the Proposed Action that require NEPA review, the EIS in this proceeding will analyze the impacts of all the related actions, as appropriate.

The Board's Role in This Proceeding

Board authority is required for the construction and operation of a new common carrier railroad line such as the Line (49 U.S.C. 10901; U.S.C. 10502). The Board will review GER's request for authority to construct and operate the Line through two parallel but distinct processes: (1) the transportation-related process that will examine whether the Line satisfies the criteria for an exemption under section 10502; and (2) the environmental review process that is being conducted by OEA.

Interested persons and entities may participate in either, or both, processes but if interested persons or entities are focused on potential environmental and historical impacts on communities, such as noise, vibration, air emissions, grade crossing safety and delay, emergency vehicle access, and other similar environmental issues, the appropriate forum is OEA's environmental review process.

Environmental Review Process

On March 29, 2024, OEA issued a Notice of Intent (NOI) to inform interested agencies, Tribes, and the public of its decision to prepare an EIS and to initiate the formal scoping process under NEPA. The NEPA process is intended to assist the Board and the public in identifying and assessing the potential environmental consequences of a proposed action before a decision on the request for authority is made. OEA is responsible for ensuring that the Board complies with NEPA and related environmental statutes, including section 106 of the NHPA and section 7 of the Endangered Species Act (ESA) (16 U.S.C. 1531 et seq.). USCG is participating in the environmental and historic review process as a Cooperating Agency pursuant to Council on Environmental Quality (CEQ) regulations at 40 Code of Federal Regulations (CFR) 1501.8. OEA and USCG will prepare this EIS in accordance with NEPA and related environmental laws, the Board's environmental regulations (49 CFR part 1105), and USCG's NEPA implementing regulations (COMDTINST 5090.1). The EIS is intended to provide the Board; USCG; USACE; IBWC; other Federal, State, and local agencies; federally recognized Tribes; and the public with clear and concise information on the potential environmental and historic impacts of the Proposed Action, an alternative route that OEA believes would be reasonable, the No-Action Alternative, and all the related actions. Additional information on OEA's scope of environmental analysis for the EIS is described below.

Purpose and Need

The proposed Federal action here is the Board's decision to authorize with appropriate conditions or to deny GER's request for authority to construct and operate the Line. The Line is not a Federal Government-proposed or sponsored project. Thus, the project's purpose and need should be informed by both the private applicant's goals and the Board's enabling statute—the Interstate Commerce Act (ICC), as amended by the ICC Termination Act, Public Law 104-188, 109 Stat. 803 (1996).

GER's purpose for constructing and operating the Line is to develop an economically viable solution to meet the need for border infrastructure improvements at Eagle Pass that increases safety and facilitates binational trade between the United States and Mexico. According to GER, the Line would resolve rail and truck congestion, reduce cross border wait times, and route rail traffic around the urban center of Eagle Pass.

Proposed Action and Alternatives

Proposed Action

According to GER, the Line would be a secure, double-tracked rail corridor with no roadway/rail at-grade crossings, extending from the interchange point with the UP tracks at approximately UP milepost 31 on the Eagle Pass Subdivision near UP's Clark's Park Yard, for approximately 1.3 miles southwest to the United States/Mexico border. The Line would cross the Rio Grande River on the Rail Bridge and would be elevated on a 100-foot-wide earthen embankment. The total width of the Line, including the service roads, would be approximately 160 feet. A non-intrusive inspection (NII) facility and noise barriers would be located within the right-of-way. The Line would be fully fenced, monitored, and patrolled by security personnel on a service road. In addition to the Line, which requires Board authority, the PVGTB Project would include a new commercial motor vehicle roadway that would cross the Rio Grande River on the Road Bridge; a control tower; and truck inspection facilities. Customs and Border Protection (CBP) would operate the inspection facilities. PVH would either lease the facilities to CBP; transfer ownership of the facilities to the General Services Administration (GSA); or operate the inspection facilities as a privately owned Central Examination Station under 19 CFR part 118. A variety of commodities would move to and from Mexico over the Line and roadway. Trains operating on the Line would consist of approximately 150 cars with two locomotives on the front end and one on the rear end, for an approximate train length of 9,300 feet.

USCG will issue a decision on a proposed Federal action whether to grant or deny GER's request for a permit to construct and operate the proposed bridges across the Rio Grande River and will participate as a Cooperating Agency in the EIS process. Permits will also be required from USACE and IBWC. The EIS will analyze the impacts of constructing and operating the Line as well as the other parts of the PVGTB Project, as appropriate.

Alternatives To Be Carried Forward in the EIS

The EIS will analyze and compare the potential impacts of construction and operation of the Proposed Action, reasonable alternative routes, and the No-Action Alternative (denial of construction and operation authority). Following consultation with USCG; USACE; IBWC; other appropriate Federal, State, and local agencies; Tribes; other affected stakeholders; the public; and GER, OEA has determined that the reasonable alternatives that the EIS will analyze in detail are:

• Proposed Action (Southern Rail Alternative), GER's preferred route. GER originally proposed a route that would have diverged from the UP mainline at approximate milepost 31, crossed Seco Creek, curved to the south of Seco Creek on an embankment, crossed over Rodriguez Street, Barrera Street, and U.S. 277 (Del Rio Boulevard) using bridges with an embankment in between, traversed an undeveloped area, crossed Seco Creek in two locations, and continued to and across the Rio Grande River. On June 27, 2024, GER sent OEA a letter modifying its original route. The modified route departs the UP mainline at the same location as the originally proposed route and follows the same route as the original route until the crossing over U.S. 277. West of U.S. 277, the modified route curves slightly to the south of the originally proposed route to avoid potential impacts associated with crossing Seco Creek and continues to and across the Rio Grande River. This route is now GER's preferred alternative route and is referred to as the Southern Rail Alternative below.

• Northern Rail Alternative. Based on information obtained through the scoping process (including data collection, technical evaluations, and an additional site visit), OEA developed the Northern Rail Alternative as another reasonable build alternative for consideration in the EIS. The Northern Rail Alternative would follow a similar route as the Southern Rail Alternative from the UP mainline to U.S. 277 but diverge to the north approximately 0.1 mile west of U.S. 277 to minimize visual impacts to the residences south of Seco Creek. The Northern Rail Alternative would cross Seco Creek slightly to the north of GER's originally proposed route, continue straight, and curve to cross Seco Creek and the Rio Grande River on the Rail Bridge. Under this alternative, the Rail Bridge would be located a little farther north than the Rail Bridge associated with the Southern Rail Alternative.

Additional information, including a map showing the routes of both rail alternatives, can be found on the Board-sponsored project website at www.greeneaglerreis.com.

Alternatives Considered But Not Carried Forward in the EIS

OEA reviewed and dismissed from detailed analysis several other rail routes that GER had considered. Those routes would have run farther north than the Southern and Northern Rail Alternatives, from the UP Clark's Park Yard and along or near FM 1588 (Thompson Road), through residential areas, industrial areas, and open space before crossing the Rio Grande River. OEA determined that those routes would be infeasible because to connect with the UP mainline, the routes would have to cross the existing yard track used for switching, which would interfere with existing rail operations. In addition, some of the routes would displace numerous residences or industrial properties. The routes would also require longer bridges across the Rio Grande River than either the Southern or the Northern Rail Alternatives. Therefore, the EIS will carry forward the Southern Rail Alternative, the Northern Rail Alternative, and the No-Action Alternative for detailed analysis in the EIS.

Summary of Scoping Process

In December 2023, OEA conducted preliminary consultation with Federal, State, and local agencies as well as federally recognized Native American Tribes and elected officials to determine whether to prepare an Environmental Assessment or an EIS. OEA received responses from the Mayor of Eagle Pass; the Maverick County Judge; USCG; IBWC; CBP; USACE; the Federal Highway Administration (FHWA); the Bureau of Indian Affairs; the Texas Commission on Environmental Quality; Texas Parks and Wildlife; the Texas General Land Office; the Texas Historical Commission; the City of Eagle Pass (Bridge General Manager, Chief of Police, City Engineer, Chairman of the Planning and Zoning Commission, and Public Works Director); and Kickapoo Traditional Tribe of Texas.

As part of this effort, OEA identified eight agencies (FHWA; GSA; IBWC; Texas Department of Transportation; USACE; USCG; CBP; and U.S. State Department) that would potentially need to permit or otherwise authorize parts of the PVGTB Project. OEA invited these agencies to participate in the NEPA process as Cooperating Agencies. Only USCG accepted OEA's Cooperating Agency invitation.

Based on initial information provided by GER, preliminary consultation with agencies and elected officials, and preliminary analysis, OEA determined that the preparation of an EIS is appropriate in this case. The scoping process began on March 29, 2024, when OEA issued the NOI and published the NOI in the Federal Register. The NOI announced OEA's intent to prepare an EIS, solicited comments on the scope of the EIS, and provided information on public scoping meetings. Simultaneously with the issuance of the NOI, OEA sent scoping letters to potentially interested Federal, State, and local agencies as well as six federally recognized Native American Tribes.

To inform the public of the issuance of the NOI and the public meetings, OEA posted online Google banner advertisements (banner ads) focusing on the Eagle Pass area; mailed postcards to 723 property owners in the vicinity of the Line and other parts of the PVGTB Project; and sent letters to 78 community leaders in the Eagle Pass area along with a flyer that could be shared with their respective communities. OEA sent letters to Federal, State, and local elected officials in Eagle Pass and Maverick County and issued a press release.

During scoping, which lasted from March 29 through April 29, 2024, OEA hosted three public meetings to receive oral comments: two in-person meetings in Eagle Pass (April 16, 2024, from 11:30 a.m. to 1:30 p.m. and from 6:00 to 8:00 p.m., Central Daylight Time [CDT]) and one online meeting (April 23, 2024, from 6:00 to 8:00 p.m. CDT). OEA also established a Board-sponsored project website at www.greeneaglerreis.com to provide current information about the Line and the PVGTB Project. OEA set up a toll-free phone line and a dedicated email address for the public to raise questions and concerns.

As part of the planning effort for the scoping process, OEA determined that a majority of residents in Eagle Pass and Maverick County reported as Hispanic or Latino and speak a language other than English at home, predominantly Spanish. Therefore, OEA has and will continue to take appropriate measures to facilitate communication with Spanish speakers. For example, all public scoping materials were made available in both English and Spanish. OEA also provided simultaneous interpretation and translation services from English to Spanish and from Spanish to English at the in-person public scoping meetings held in Eagle Pass and at the public scoping meeting held online. In addition, this Final Scope is being made available in Spanish as well as English.

In total, during scoping, OEA received 174 comments, 41 of which were oral comments given at the public scoping meetings and 133 of which were written comments. OEA summarized and responded to the substantive comments received below.

Summary of Scoping Comments

• Purpose and Need: Commenters questioned the need for the PVGTB Project, noting that the existing commercial motor vehicle crossing at Eagle Pass has sufficient capacity to accommodate present and future commercial vehicles. Other commenters noted the development and economic benefits to be derived from the PVGTB Project. The Purpose and Need for the Line and the PVGTB Project is discussed above.

• Proposed Action and Alternatives: Commenters suggested alternative alignments for the Line through undeveloped areas farther to the north of Eagle Pass than GER's originally proposed rail route. Commenters questioned the efficiency of the Line because of its length and alleged deficiencies in operational planning. Some commenters asked that OEA consider routing traffic to and from the proposed truck screening facility (part of the PVGTB Project) via a new north-south road perpendicular to FM 1589 and connecting to U.S. 277 across from FM 1588. As noted above, the EIS will evaluate the Southern Rail Alternative, the Northern Rail Alternative, and the No-Action Alternative. The EIS will also discuss alternatives considered but not carried forward for detailed analysis.

• Freight Rail Safety: Commenters expressed concerns about the potential transportation of hazardous materials through inhabited areas and the associated risk of accidental spills and contamination, referencing the 2023 accident in Palestine, Ohio, and emphasizing the risk of spill-induced injuries or fatalities, such as cancer risks and other illnesses. The U.S. Environmental Protection Agency (EPA), the only Federal agency that submitted scoping comments, recommended that the EIS include a response plan for the accidental release of hazardous materials and a discussion of how applicable regulations would be applied to the construction and operation of the Line and associated facilities. Commenters also noted the benefits of moving rail traffic away from the downtown area of Eagle Pass and of constructing a secure rail line. As described below in the Final Scope, the EIS will assess rail safety impacts, including the risks of derailments and accidental spills, as appropriate.

• Roadway Capacity: Commenters raised concerns about the congestion that the roadway part of the PVGTB Project could create on local roads, especially along U.S. 277 (Del Rio Boulevard) and FM 1589 (Hopedale Road), which provides access to and from the Hopedale neighborhood. Commenters stated that the proposed roadway would conflict with existing roadway plans and asked that impacts on existing infrastructure be considered. Commenters were also concerned that increased congestion could affect emergency vehicle response times. As described below in the Final Scope, the EIS will address traffic and roadway system impacts and will consider potential mitigation measures to address impacts related to traffic and roadway systems, as appropriate.

• Roadway Safety: Commenters raised concerns about the risks associated with the transportation of hazardous materials by truck. A commenter suggested that the PVGTB Project would improve safety, considering the current congestion involving automobiles and trucks in Eagle Pass and noting a recent accident involving hazardous materials that occurred off Veterans Boulevard because of heavy traffic. As described below in the Final Scope, the EIS will analyze roadway safety impacts, as appropriate.

• Noise and Vibration: Commenters expressed concerns about train noise on houses and schools near the Line, including potential health effects from noise. A commenter observed that the City of Eagle Pass has spent approximately 15 years trying to establish quiet zones for the existing grade crossings that would no longer be traversed by trains if the Board approves the Line. Commenters also raised concerns about vibration from both construction and operation of the Line, especially since some potentially affected houses are old and may, in the view of the commenters, suffer structural damage. As described below in the Final Scope, the EIS will address noise and vibration impacts and will consider potential mitigation measures to address impacts related to noise and vibration, as appropriate.

• Air Quality and Climate Change: Commenters raised concerns regarding potential air quality impacts on human health and communities due to emissions from rail traffic. EPA submitted scoping comments recommending that the EIS provide a detailed discussion of ambient air conditions (baseline or existing conditions); National Ambient Air Quality Standards (NAAQS) and non-NAAQS pollutants; criteria pollutant nonattainment areas; hazardous air pollutants; and potential air quality impacts. EPA stated that the discussion should address potential construction, maintenance, and operational activities, and that a construction emissions mitigation plan should be included in the EIS. EPA specified that the EIS should identify all emission sources by pollutant from mobile sources (on and off-road), stationary sources (including portable and temporary emission units), fugitive emission sources, area sources, and ground disturbance. EPA also suggested that this information be used to identify appropriate mitigation measures. The Final Scope reflects that the EIS will consider air quality impacts in accordance with applicable regulations and guidance, as appropriate.

• Cultural Resources: Commenters expressed concerns about potential impacts on Native American burial grounds and historic cemeteries known to be present in the project area. The Final Scope reflects that the EIS will consider impacts on cultural and tribal resources as well as potential mitigation measures to address impacts on cultural resources, as appropriate.

• Water Resources: Commenters raised concerns regarding impacts from construction in the floodplains of the Rio Grande River, Seco Creek, and Elm Creek, and how construction could affect flood levels. Commenters also expressed concerns about the potential effects of an accidental spill from the proposed bridges across the Rio Grande River on water quality as well as on the area's water supply because the drinking water intake is located downstream of the proposed bridges (as opposed to upstream of the existing bridges). EPA's scoping comments recommended that the EIS discuss compliance with sections 402 and 303(d) of the Clean Water Act (CWA), including specific segments of the Rio Grande River near the project area that are impaired (if any). The Final Scope reflects that the EIS will consider potential impacts on water resources, as well as potential mitigation measures to address impacts on water resources, as appropriate.

• Biological Resources: Commenters expressed concerns about impacts on the local ecosystem, especially species dependent on access to local waterbodies, which may be cut off from their water sources. EPA's scoping comments recommended that the EIS address the need for a plan to revegetate areas cleared for construction. EPA stated that construction, operation, and maintenance activities would cause increased sedimentation and turbidity, which can affect threatened and endangered species in the area, and that best management practices should be implemented to reduce those risks. Furthermore, EPA recommended revegetation plans for disturbed areas and clarification on oil, fuel, and solid waste management spill and leak protocols. The Final Scope reflects that the EIS will consider impacts on wildlife and vegetation, as appropriate.

• Land Use: Commenters raised concerns about impacts on land that was previously used for mining or as a landfill. Commenters asked that potential impacts on UP's tracks, network, and operations be considered, as well as the impacts on Clark's Park Yard. Commenters also expressed concerns about the Line impeding vehicular movements on private property. EPA recommended that the EIS analyze impacts from the generation and disposal of solid and hazardous waste. The Final Scope reflects that the EIS will consider impacts on land use and impacts from the generation and disposal of solid and hazardous waste, as appropriate.

• Socioeconomics: Commenters raised concerns regarding potential impacts on property values and the loss of bridge revenues for the City of Eagle Pass. Commenters also suggested that the Line and the PVGTB Project would generate economic benefits on both sides of the border, including new jobs, more housing, and improved trade relations. Commenters also requested that the need for additional CBP personnel be evaluated. NEPA requires agencies to evaluate the “environmental impact” and any unavoidable adverse “environmental effects” of a proposed action. A potential change in property values would not be an effect on the environment. Therefore, the Final Scope reflects that the EIS will not consider impacts to property values. The Final Scope will consider impacts from the potential generation of jobs, as appropriate.

• Environmental Justice: Commenters noted that the Line would run through low-income neighborhoods that have previously been subject to adverse impacts from past projects. The Eagle Pass Housing Authority noted that the Line would be located close to two of the Authority's housing developments, subsidized by the U.S. Department of Agriculture and the U.S. Department of Housing and Urban Development, respectively. The Final Scope reflects that the EIS will consider potentially disproportionate impacts on low-income and minority communities and address environmental justice issues, as appropriate.

Based on the comments received during scoping and OEA's independent analysis, OEA has prepared the Final Scope of Study for the EIS, which is detailed below.

Final Scope

Environmental and Historic Impact Analysis

The EIS will address the potential environmental and historic impacts of the Line and the PVGTB Project, as appropriate. OEA will evaluate only the potential environmental and historic impacts of operational and physical changes that are related to the Line, the alternatives described above, and other parts of the PVGTB Project, as appropriate.

The EIS will analyze potential direct, indirect, and cumulative impacts on the environment for the Proposed Action, each reasonable alternative, and other parts of the PVGTB Project, as appropriate.¹ The EIS will also analyze the impacts of the No-Action Alternative. Impact areas assessed will include freight rail safety; grade crossing safety and delay; roadway safety and capacity; noise and vibration; air quality and climate change; energy; geology and soils; cultural resources; hazardous materials release sites; biological resources; water resources (including wetlands and other waters of the United States); land use; socioeconomics; visual resources; environmental justice; cumulative impacts; and transboundary impacts, as described below.

¹ NEPA requires the Board to consider direct, indirect, and cumulative impacts. Direct and indirect impacts are both caused by the action. 40 CFR 1508.1(i)(1) and (2). A cumulative impact is the “incremental effects of the action when added to the effects of other past, present, and reasonably foreseeable future actions regardless of what agency (Federal or non-Federal) or person undertakes such other actions.” 40 CFR 1508.1(i)(3).

Environmental Impact Categories

1. Freight Rail Safety

The EIS will:

A. Describe projected rail operations and analyze the potential for changes in the probability of train accidents, including derailments, as appropriate.

B. Identify hazardous materials that could be transported and the likelihood of an accidental release of hazardous materials and its consequences.

2. Grade Crossing Safety

The EIS will:

A. Evaluate potential impacts on road/rail grade crossing safety and analyze the potential for a change in the rate of accidents related to the proposed rail operations, as appropriate.

3. Grade Crossing Delay

The EIS will:

A. Describe existing crossing delays and analyze the potential for changes in delays related to the proposed rail operations, as appropriate.

B. Evaluate the potential for disruptions and delays to the movement of emergency vehicles.

4. Roadway Safety

The EIS will:

A. Describe and analyze changes in crash frequencies for relevant roadway segments and intersections, as appropriate.

5. Roadway Capacity

The EIS will:

A. Evaluate the effect of the Line and other parts of the PVGTB Project on affected roadway segments, as appropriate. The EIS will analyze the volume to capacity ratio of each of the roadway segments and levels of service at relevant intersections.

6. Noise and Vibration

The EIS will:

A. Describe the potential noise and vibration effects of the Line and other parts of the PVGTB Project during construction, as appropriate.

B. Describe the potential noise and vibration effects of the Line and other parts of the PVGTB Project during operation, as appropriate.

C. Determine, as appropriate, whether the Line and other parts of the PVGTB Project would cause:

i. An incremental increase in noise levels of three decibels (dB) day-night average sound level (Ldn) or more; and

ii. An increase to a noise level of 65 dB Ldn or greater. If so, the EIS will identify sensitive receptors (e.g., schools, libraries, hospitals, residences, retirement communities, and nursing homes) in the project area and quantify the noise increase for these receptors using applicable thresholds defined by the Federal Transit Administration (FTA).

7. Air Quality and Climate Change

The EIS will:

A. Quantify emissions of criteria pollutants and greenhouse gases resulting from construction and operation of the Line and other parts of the PVGTB Project, as appropriate.

B. Analyze the potential impacts of climate change on the Line and other parts of the PVGTB Project, as appropriate.

8. Energy

The EIS will:

A. Describe the effects of the Line and other parts of the PVGTB Project on the transportation of energy resources, as appropriate.

B. Describe the effects of the Line and other parts of the PVGTB Project on recyclable commodities, as appropriate.

C. State whether the Line and other parts of the PVGTB Project would result in an increase or decrease in overall energy efficiency and explain why, as appropriate.

9. Geology and Soils

The EIS will:

A. Describe geology, topography, and soils within the project area.

B. Evaluate potential effects on geological, topographical, and soil conditions from the construction of the Line and other parts of the PVGTB Project, as appropriate.

10. Cultural Resources

The EIS will:

A. Identify historic buildings, structures, sites, objects, or districts eligible for listing on or listed on the National Register of Historic Places within the Area of Potential Effect (APE).

B. In consultation with federally recognized Tribes participating in the section 106 process, identify properties of traditional religious and cultural importance to Tribes and prehistoric or historic archaeological sites evaluated as potentially eligible, eligible, or listed on the National Register (archaeological historic properties) within the APE and analyze potential project-related impacts to them, including indirect visual effects.

11. Hazardous Materials Release Sites

The EIS will:

A. Identify known hazardous waste sites or sites where there have been known hazardous material spills within 500 feet of the Line and other parts of the PVGTB Project, as appropriate; identify the location of those sites and the types of hazardous waste involved.

B. Assess the risk from construction associated with each identified site.

12. Biological Resources

The EIS will:

A. Based on consultation with the U.S. Fish and Wildlife Service, identify whether the Line and other parts of the PVGTB Project would be likely to adversely affect endangered or threatened species or areas designated as a critical habitat, as appropriate, and if so, describe the effects.

B. Evaluate biological resources within the project area, including vegetative communities, wildlife, aquatic resources, wetlands, and federally and State-listed threatened and endangered species (including candidate species).

C. Assess qualitatively the effects of the Line and other parts of the PVGTB Project on wildlife, as appropriate. Effects may include displacement, habitat fragmentation, and vehicular collisions as well as behavioral and noise-related impacts.

13. Water Resources

The EIS will:

A. Identify whether the Line and other parts of the PVGTB Project, as appropriate, would require permits under section 404 of the CWA and whether any designated wetlands or 100-year floodplains would be affected.

B. Identify whether the Line and other parts of the PVGTB Project, as appropriate, would require permits under section 402 of the CWA.

C. Identify whether the Line and other parts of the PVGTB Project, as appropriate, would require permits under sections 9 and 10 of the Rivers and Harbors Act.

D. Evaluate the effects of the Line and other parts of the PVGTB Project, as appropriate, on surface waters, water quality, wetlands, floodplains, and groundwater resources, including 303(d)-listed impaired surface waters, if any.

14. Land Use

The EIS will:

A. Evaluate the effects of the Line and other parts of the PVGTB Project on land use, as appropriate. Such impacts may include incompatibility with existing land uses; conversion of land to railroad use; and compatibility with conservation easements and other encumbrances on privately owned land, as applicable.

15. Socioeconomics

The EIS will:

A. Analyze economic effects of constructing and operating the Line and other parts of the PVTGB Project, including direct and induced job creation, as appropriate.

16. Visual Resources

The EIS will:

A. Describe the potential effects of the Line and other parts of the PVGTB Project on the existing visual character of, and quality of views from, the vicinity of the project area, as appropriate.

B. Include visualizations illustrating how the Line and other parts of the PVGTB Project would affect views from select locations, as appropriate.

17. Environmental Justice

The EIS will:

A. Evaluate whether the Line and other parts of the PVGTB Project would adversely or beneficially affect low-income or minority populations, as appropriate.

B. Determine whether adverse impacts would be disproportionately borne by minority and low-income populations.

18. Cumulative Impacts

The EIS will:

A. Evaluate the cumulative effects of the Line and other parts of the PVGTB Project, when added to other past, present, and reasonably foreseeable future actions, as appropriate.

19. Transboundary Impacts

The EIS will:

A. Describe the impacts of constructing the Line and other parts of the PVGTB Project on resources located across the Mexico/United States border, as appropriate.

20. Mitigation Measures

The EIS will:

A. Describe any measures that are proposed to mitigate adverse environmental or historic impacts, indicating why the proposed mitigation is appropriate.

By the Board, Danielle Gosselin, Director, Office of Environmental Analysis.
Stefan Rice,
Clearance Clerk.

[FR Doc. 2024-14740 Filed 7-5-24; 8:45 am]

BILLING CODE 4915-01-P